FEDERAL RETIREMENT THRIFT INVESTMENT BOARD

Sunshine Act Meeting

TIME AND DATE: 9:00 a.m. (Eastern Time), January 28, 2013.

PLACE: 10th Floor Board Meeting Room, 77 K Street NE., Washington, DC 20002.

STATUS: Parts will be open to the public and parts will be closed to the public

Matters To Be Considered

1. Approval of the Minutes of the December 17, 2012 Board Member Meeting.

2. Thrift Savings Plan Activity Report by the Acting Executive Director.

a. Monthly Participant Activity Report.

b. Monthly Investment Performance Report.

c. Legislative Report.

3. Quarterly Investment Policy Report.

4. Quarterly Vendor Financials Review.

5. Annual Expense Ratio Report.

6. Annual Statement.

7. 2013 Board Meeting Calendar.

Parts Closed to the Public

8. Personnel.

9. Procurement.

10. Security.

11. Legal.

CONTACT PERSON FOR MORE INFORMATION: Kimberly Weaver, Director, Office of External Affairs, (202) 942-1640.

Dated: January 18, 2013.
James B. Petrick,
Secretary, Federal Retirement Thrift Investment Board.

[FR Doc. 2013-01410 Filed 1-18-13; 4:15 pm]

BILLING CODE 6760-01-P